DEPARTMENT OF DEFENSE

Department of the Army

Environmental Impact Statement for Disposition of Hangars 2 and 3, Fort Wainwright, AK

AGENCY: Department of the Army, DoD.

ACTION: Notice of Intent.

SUMMARY: The Department of the Army announces its intent to conduct public scoping under the National Environmental Policy Act to gather information to prepare an Environmental Impact Statement (EIS) related to the disposition of Hangars 2 and 3 at Fort Wainwright, Alaska. Hangars 2 and 3 are contributing elements to the Ladd Field World War II National Historic Landmark (NHL). The Department of the Army will use the analysis in the EIS to determine which alternative to implement. There may be significant impacts to historic properties.

ADDRESSES: Written comments should be forwarded to Ms. Carrie McEnteer, Directorate of Public Works, Attention: IMPC-FWA-PWE (McEnteer), 1060 Gaffney Road #4500, Fort Wainwright, AK 99703-4500; fax (907) 361-9867; email: carrie.mcenteer@us.army.mil.

FOR FURTHER INFORMATION CONTACT: Please contact Ms. Linda Douglass, Public Affairs Office (PAO), IMPC-FWA-PAO (Douglass), 1060 Gaffney Road #5900, Fort Wainwright, AK 99703-5900; telephone (907) 353-6701, email: linda.douglass@us.army.mil.

SUPPLEMENTARY INFORMATION: The decision to be made by the Army is regarding the disposition of two historic aircraft hangars located at Fort Wainwright. The EIS will assess the direct, indirect, and cumulative environmental impacts associated with various proposed facility disposition options to meet safety, funding, facilities management, land use, and cultural resources management objectives. The condition of the facilities warrants a decision on the disposition that meets the aforementioned management objectives.

The implementation of the proposed action would determine the disposition for the historic hangars. Based on the decision, a management strategy would be developed. A range of reasonable alternatives, including a No Action Alternative, will be developed and analyzed in the EIS. Alternatives to be considered include converting both hangars to another use, demolishing both hangars, demolishing one hangar and retaining one hangar, indefinite mothballing of the buildings, and transferring facilities and management responsibility to another agency. Other reasonable alternatives raised during the scoping process and capable of meeting the project purpose and need and criteria will be considered for evaluation in the EIS.

Scoping and public comments: Native Americans, Alaska Natives, federal, state, and local agencies, organizations, and the public are invited to be involved in the scoping process for the preparation of this EIS by participating in scoping meetings and/or submitting written comments. The scoping process will help identify possible alternatives, potential environmental impacts, and key issues of concern to be analyzed in the EIS. Written comments will be accepted within 60 days of publication of the Notice of Intent in the Federal Register. Scoping meetings will be held in Fairbanks, AK. Notification of the times and locations for the scoping meetings will be locally published.

Brenda S. Bowen,
Army Federal Register Liaison Officer.

[FR Doc. 2011-29410 Filed 11-15-11; 8:45 am]

BILLING CODE 3710-08-P